GENERAL SERVICES ADMINISTRATION

[Notice-CX-2015-01; Docket No. 2015-0002; Sequence 21]

SES Performance Review Board

AGENCY: General Services Administration.

ACTION: Notice.

SUMMARY: Notice is hereby given of the appointment of new members to the General Services Administration Senior Executive Service Performance Review Board. The Performance Review Board assures consistency, stability, and objectivity in the performance appraisal process.

DATES: Effective: October 21, 2015.

FOR FURTHER INFORMATION CONTACT: Antonia T. Harris, Chief Human Capital Officer, Office of Human Resources Management, General Services Administration, 1800 F Street NW., Washington, DC 20405, 202-501-0398.

SUPPLEMENTARY INFORMATION: Section 4314(c)(1), through (5) of title 5 U.S.C., requires each agency to establish, in accordance with regulations prescribed by the Office of Personnel Management, one or more SES performance review board(s). The board is responsible for making recommendations to the appointing and awarding authority on the performance appraisal ratings and performance awards for the Senior Executive Service employees.

The following have been designated as members of the Performance Review Board of the General Services Administration:

Adam Neufeld, Deputy Administrator—Chair.

Antonia Harris, Chief Human Capital Officer.

Jerome Fletcher, Associate Administrator for Small Business Utilization.

Christine Harada, Associate Administrator for Governmentwide Policy.

Thomas Sharpe, Jr., Commissioner, Federal Acquisition Service.

Kevin Youel Page, Deputy Commissioner, Federal Acquisition Service.

Norman Dong, Commissioner, Public Buildings Service.

Michael Gelber, Deputy Commissioner, Public Buildings Service.

Giancarlo Brizzi, Principal Deputy Associate Administrator for Governmentwide Policy.

Joanna Rosato, Regional Commissioner, Public Buildings Service, Mid-Atlantic Region.

Kim Brown, Regional Commissioner, Federal Acquisition Service, Great Lakes Region.

Dated: October 15, 2015.
Denise T. Roth,
Administrator, General Services Administration.

[FR Doc. 2015-26661 Filed 10-20-15; 8:45 am]

BILLING CODE 6820-34-P